DEPARTMENT OF COMMERCE

National Oceanic and Atmospheric Administration

RIN 0648-XF157

Caribbean Fishery Management Council; Public Meetings

AGENCY: National Marine Fisheries Service (NMFS), National Oceanic and Atmospheric Administration (NOAA), Commerce.

ACTION: Notice of a public meeting.

SUMMARY: The Caribbean Fishery Management Council's Scientific and Statistical Committee (SSC) will hold a five-day meeting in San Juan, Puerto Rico.

DATES: The meetings will be held on February 6-10, 2017. The meeting will begin at 1 p.m. on February 6, 2017 and adjourn at 5 p.m. on February 10, 2017.

ADDRESSES: The meetings will be held at the Council Office, 270 Muñoz Rivera Avenue, Suite 401, San Juan, Puerto Rico.

FOR FURTHER INFORMATION CONTACT: Caribbean Fishery Management Council, 270 Muñoz Rivera Avenue, Suite 401, San Juan, Puerto Rico 00918-1903, telephone (787) 766-5926.

SUPPLEMENTARY INFORMATION: The Caribbean Fishery Management Council's SSC will hold a five-day meeting to discuss the items contained in the following agenda:

—Call to Order

—Adoption of Agenda

—SEDAR 46 US Caribbean Data Limited Species—Southeast Fisheries Science Center (SEFSC)

Complete and final review of the revisions to the SEDAR 46 and its potential for OFL and/or ABC advice

—Island Based Fishery Management Plans (IBFMPs)

The Caribbean Fishery Management Council is developing an Island Based FMP to manage fisheries in each Puerto Rico, St. Thomas/St. John and St. Croix. There are 5 Actions contained in the Draft documents but the SSC will be discussing Action 2 and 3 at this meeting. The Draft Document of Actions and Alternatives presented at the 158th CFMC meeting is available at www.caribbeanfmc.com.

Finalize Action 2: Establish Stock or Stock Complexes for each Puerto Rico, St. Thomas/St. John and St. Croix Fishery Management Plan (FMP)

—Review Consolidated List of Stocks and Stock Complexes/Species Complexes—NMFS Southeast Regional Office (SERO) Update

—SSC final recommendations to the CFMC on species/stock complexes groupings, and recommendations on the use of indicator species in Action 2 of the IBFMPs

Review/Finalize Action 3: Management Reference Points for Stocks/Stock for each Puerto Rico, St. Thomas/St. John and St. Croix Fishery Management Plan (FMP)

Action 3(a): Time Series: Select a time series of landings data to establish management reference points for a stock/stock complex, as applicable.

Action 3(b): Maximum Sustainable Yield (MSY) Proxy for a Stock/Stock Complex for each Puerto Rico, St. Thomas/St. John and St. Croix FMP

Action 3(c): Overfishing Limit (OFL) for Stocks/Stocks Complexes for each Puerto Rico, St. Thomas/St. John and St. Croix FMP

Action 3(d): Acceptable Biological Catch (ABC) Control Rule for Stocks/Stocks Complexes for each Puerto Rico, St. Thomas/St. John and St. Croix FMP.

Action 3(e): Optimum Yield (OY) and Annual Catch Limit (ACL) for Stocks/Stocks Complexes for each Puerto Rico, St. Thomas/St. John and St. Croix FMP.

—SSC final recommendations to the Council on Action 3 of the IBFMPs: Process for setting Reference Points, MSY proxies, OFL, ABC for species/species complexes/groupings

—Other Business

—Next Meeting

Special Accommodations

These meetings are physically accessible to people with disabilities. For more information or request for sign language interpretation and other auxiliary aids, please contact Mr. Miguel A. Rolón, Executive Director, Caribbean Fishery Management Council, 270 Muñoz Rivera Avenue, Suite 401, San Juan, Puerto Rico, 00918-1903, telephone (787) 766-5926, at least 5 days prior to the meeting date.

Dated: January 10, 2017.
Jeffrey N. Lonergan,
Acting Deputy Director, Office of Sustainable Fisheries, National Marine Fisheries Service.

[FR Doc. 2017-00738 Filed 1-12-17; 8:45 am]

BILLING CODE 3510-22-P